DEPARTMENT OF COMMERCE

National Oceanic and Atmospheric Administration

[I.D. 050905C]

North Pacific Fishery Management Council; Public Meeting

AGENCY: National Marine Fisheries Service (NMFS), National Oceanic and Atmospheric Administration (NOAA), Commerce.

ACTION: Meeting of the North Pacific Fishery Management Council's Non-Target Species Committee.

SUMMARY: The North Pacific Fishery Management Council's (Council) Non-Target Species Committee will meet at the Alyeska Prince Hotel, May 31, 2005, in Ballroom C, 2 pm - 6 pm.

DATES: May 31, 2005.

ADDRESSES: Alyeska Prince Hotel, P.O. Box 249, Girdwood, AK 99587

Council address: North Pacific Fishery Management Council, 605 W. 4th Avenue, Suite 306, Anchorage, Alaska 99501-2252.

FOR FURTHER INFORMATION CONTACT: Jane DiCosimo, Council staff, Phone: 907-271-2809.

The Non-Target Species Committee will meet on May 31 to review a template for a planned discussion paper on rockfish management. The committee will determine whether the template should be expanded for use in preparing the full discussion paper.

Special Accommodations

These meetings are physically accessible to people with disabilities. Requests for sign language interpretation or other auxiliary aids should be directed to Gail Bendixen at 907-271-2809 at least 7 working days prior to the meeting date.

April 9, 2005.
Emily Menashes,
Acting Director, Office of Sustainable Fisheries, National Marine Fisheries Service.

[FR Doc. E5-2343 Filed 5-11-05; 8:45 am]

BILLING CODE 3510-22-S